DEPARTMENT OF COMMERCE

International Trade Administration

Applications for Duty-Free Entry of Scientific Instruments

Pursuant to Section 6(c) of the Educational, Scientific and Cultural Materials Importation Act of 1966 (Pub. L. 89-651; as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce 14th and Constitution Ave., NW, Room 2104 Washington, D.C. 20230. Applications may be examined between 8:30 A.M. and 5:00 P.M. in Room 2104, U.S. Department of Commerce.

Docket Number: 07-051. Applicant: Colorado College, Department of Physics, 14 E. Cache la Poudre, Colorado Springs, CO 80903 Instrument: Low Temperature Ulta-High Vacuum Scanning Tunneling Microscope. Manufacturer: Omicron Nanotechnology GmbH, Germany Intended Use: The instrument is intended to be used in a collaborative project with NIST to develop a Josephson-junction based quantum computer. The instrument will provide detailed maps of the electron density of the materials as a function of spacial position and energy. Since electrical conductivity derives from electron density, the maps will allow study of how well electrons are locally conducted through various materials.

The instrument provides: (a) A scanning tunneling microscope mounted inside a 4 K liquid helium reservoir (with a 22-hour liquid helium refill time); (b) Operation at an equilibrium temperature of 4 K with in-situ sample preparation and tip transfer capability); (c) Low drift rates of 1 angstrom/hour (d) RMS vibration amplitudes of <0.005 angstrom in a 300 Hz bandwidth; and (e) Sample registry after deposition. Application accepted by Commissioner of Customs: July 31, 2007.

Docket Number: 07-053. Applicant: University of Kentucky, Dept. Civil Engineering, 161 Raymond Building, Lexington, KY 40506 Instrument: Soil Stiffness Testing System. Manufacturer: GDS Instruments, Ltd., UK. Intended Use: The instrument is intended to be used to measure soil stiffness at very small strains in a specially modified automated triaxial test apparatus. These measurements are critical to understanding and consequently predicting soil behavior for all geotechnical systems.

The instrument provides a vertically propagating S-wave transmitter and a P-wave receiver along with a vertically propagating P-wave transmitter and S-wave receiver and a master signal conditioning unit along with GDSBES software to control data acquisition and drive signal generation for S and P wave velocity tests as well as a Hall effect local strain set (2 axial,1 radial)and mid-plane pore pressure kit. No domestic sources making similar devices provide an integrated system of this type of testing with the resolution required for advanced geotechnical research. Application accepted by Commissioner of Customs: August 3, 2007.

Faye Robinson,
Director, Statutory Import Programs Staff, Import Administration.

[FR Doc. E7-16152 Filed 8-15-07; 8:45 am]

BILLING CODE 3510-DS-S